DEPARTMENT OF TRANSPORTATION

Federal Aviation Administration

14 CFR Part 39

[Docket No. 2000-NM-62-AD]

RIN 2120-AA64

Airworthiness Directives; Airbus Model A330 and A340 Series Airplanes

AGENCY: Federal Aviation Administration, DOT.

ACTION: Notice of proposed rulemaking (NPRM).

SUMMARY: This document proposes the adoption of a new airworthiness directive (AD) that is applicable to certain Airbus Model A330 and A340 series airplanes. This proposal would require repetitive inspections to check for backlash of the spherical bearing of the active aileron servo-controls, and follow-on corrective actions, if necessary. This proposal also provides optional terminating action for the repetitive inspections. This action is necessary to detect and correct excess backlash of the spherical bearing of the active aileron servo-controls, which could result in failure of the active aileron servo-controls and consequent reduced controllability of the airplane. This action is intended to address the identified unsafe condition.

DATES: Comments must be received by July 14, 2000.

ADDRESSES: Submit comments in triplicate to the Federal Aviation Administration (FAA), Transport Airplane Directorate, ANM-114, Attention: Rules Docket No. 2000-NM-62-AD, 1601 Lind Avenue, SW., Renton, Washington 98055-4056. Comments may be inspected at this location between 9:00 a.m. and 3:00 p.m., Monday through Friday, except Federal holidays. Comments may also be sent via the Internet using the following address: 9-anm-nprmcomment@faa.gov. Comments sent via the Internet must contain “Docket No. 2000-NM-62-AD” in the subject line and need not be submitted in triplicate.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-62-AD.” The postcard will be date stamped and returned to the commenter.

Availability of NPRMs

Any person may obtain a copy of this NPRM by submitting a request to the FAA, Transport Airplane Directorate, ANM-114, Attention: Rules Docket No. 2000-NM-62-AD, 1601 Lind Avenue, SW., Renton, Washington 98055-4056.

Discussion

The Direction Générale de l'Aviation Civile (DGAC), which is the airworthiness authority for France, notified the FAA that an unsafe condition may exist on certain Airbus Model A330 and A340 series airplanes. The DGAC advises that it has received reports of servo-control rod end failures occurring on the active aileron. These failures have been attributed to wear and migration of the Teflon liner of the eye-end spherical bearing, which then caused metal-to-metal contact. This condition, if not detected and corrected, could result in failure of the active aileron servo-controls and consequent reduced controllability of the airplane.

Explanation of Relevant Service Information

The manufacturer has issued Airbus Service Bulletins A330-27-3073, Revision 01 (for Model A330 series airplanes), and A340-27-4079, Revision 01 (for Model A340 series airplanes), each dated January 18, 2000. These service bulletins describe procedures for repetitive inspections to check for backlash of the spherical bearing of the active aileron servo-controls, and follow-on corrective actions, if necessary. Follow-on corrective actions involve, among other things, installing new ECP7 standard servo-controls and performing repetitive inspections, or replacing ECP7 standard servo-controls with ECP8 or ECP9 standard servo-controls, which would eliminate the need for the repetitive inspections required by this proposed AD.

The DGAC classified these service bulletins as mandatory and issued French airworthiness directives 2000-014-108(B) (for Model A330 series airplanes) and 2000-017-134(B) (for Model A340 series airplanes), each dated January 12, 2000, in order to assure the continued airworthiness of these airplanes in France.

Additionally, Airbus has issued Service Bulletins A330-27-3075, dated September 24, 1999, and A330-27-3054, Revision 01, dated November 8, 1999 (for Model A330 series airplanes); and A340-27-4081, dated September 24, 1999, and A340-27-4062, Revision 01, dated November 8, 1999 (for Model A340 series airplanes). These service bulletins are referenced in the previously described service bulletins as additional sources of service information for the installation of ECP8 or ECP9 standard servo-controls, which would eliminate the need for the repetitive inspections.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as discussed below.

Differences Between Proposed AD and Relevant Service Information

The Airbus service bulletins (A330-27-3073 and A340-27-4079) identify various compliance times for replacement of the active aileron servo-controls, depending upon the amount of backlash detected; the French airworthiness directives support those criteria. However, this proposed AD would require that, if any backlash greater than 0.2 millimeter (mm) (0.0078 inch) is detected, corrective actions be accomplished prior to further flight. The FAA has determined that, because of the safety implications and consequences associated with excess backlash, any subject active aileron servo-control that is found to have an amount of backlash exceeding the specified limits of this AD must be replaced prior to further flight.

Cost Impact

The FAA estimates that 3 airplanes of U.S. registry would be affected by this proposed AD, that it would take approximately 20 work hours per airplane to accomplish the proposed inspection, and that the average labor rate is $60 per work hour. Based on these figures, the cost impact of the proposed AD on U.S. operators is estimated to be $3,600, or $1,200 per airplane, per inspection cycle.

The cost impact figure discussed above is based on assumptions that no operator has yet accomplished any of the proposed requirements of this AD action, and that no operator would accomplish those actions in the future if this AD were not adopted.

Should an operator elect to accomplish the optional terminating action, it would take approximately between 16 and 20 work hours per airplane, depending upon the airplane model, to accomplish the proposed optional terminating action, at an average labor rate of $60 per work hour. Based on these figures, the cost impact of this optional terminating action on U.S. operators is estimated to be between $960 and $1,200 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 2000-NM-62-AD.

Applicability: Model A330 and A340 series airplanes, certificated in any category, except those airplanes on which Airbus Modification 47433 (Airbus Service Bulletin A330-27-3075 or A340-27-4081) or Airbus Modification 45512 (Airbus Service Bulletin A330-27-3054 or A340-27-4062) has been installed.

Note 1: This AD applies to each airplane identified in the preceding applicability provision, regardless of whether it has been modified, altered, or repaired in the area subject to the requirements of this AD. For airplanes that have been otherwise modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously. To detect and correct excess backlash of the spherical bearing of the active aileron servo-controls, which could result in failure of the active aileron servo-control and consequent reduced controllability of the airplane, accomplish the following:

Inspection

(a) Perform an inspection to check for backlash of the spherical bearing of the active aileron servo-controls, in accordance with Airbus Service Bulletin A330-27-3073, Revision 01 (for Model A330 series airplanes), or A340-27-4079, Revision 01 (for Model A340 series airplanes), each dated January 18, 2000; as applicable; at the applicable time specified in paragraph (a)(1) or (a)(2) of this AD.

(1) For airplanes that, as of the effective date of this AD, have accumulated 13,000 total flight hours or less: Perform the inspection within 6 months after the effective date of this AD, or within 6 months after accumulating 9,000 total flight hours, whichever occurs later.

(2) For airplanes that, as of the effective date of this AD, have accumulated more than 13,000 total flight hours: Perform the inspection within 3 months after the effective date of this AD.

Repetitive Inspections

(b) If, during the inspection required by paragraph (a) of this AD, no backlash is detected, or if any backlash is detected that is less than or equal to 0.2 millimeter (mm) (0.0078 inch) on all active aileron servo-controls, repeat the inspection required by paragraph (a) of this AD thereafter at intervals not to exceed 15 months or until the actions of paragraph (d) of this AD are accomplished on all active aileron servo-controls.

Corrective Actions

(c) If, during any inspection required by paragraph (a) or (b) of this AD, any backlash is detected that is more than 0.2 mm (0.0078 inch), prior to further flight, accomplish the requirements of either paragraph (c)(1) or (c)(2) of this AD, in accordance with Airbus Service Bulletin A330-27-3073, Revision 01 (for Model A330 series airplanes), or A340-27-4079, Revision 01 (for Model A340 series airplanes); each dated January 18, 2000; as applicable.

(1) Replace discrepant active aileron servo-controls with new ECP7 standard servo-controls in accordance with the applicable service bulletin, and repeat the inspection required by paragraph (a) of this AD thereafter at intervals not to exceed 15 months or until the requirements of paragraph (d) of this AD are accomplished; or

(2) Replace discrepant active servo-controls with ECP8 or ECP9 standard servo-controls, in accordance with the applicable service bulletin.

Note 2: Any inspection or replacement accomplished prior to the effective date of this AD, in accordance with Airbus Service Bulletin A330-27-3073 (for Model A330 series airplanes) or A340-27-4079 (for Model A340 series airplanes), each dated August 31, 1999, is considered acceptable for compliance with the applicable requirement specified by this AD.

Optional Terminating Action

(d) Replacement of all active servo-controls with ECP8 or ECP9 standard servo-controls, in accordance with Airbus Service Bulletins A330-27-3075, dated September 24, 1999, and A330-27-3054, Revision 01, dated November 8, 1999 (for Model A330 series airplanes); or A340-27-4081, dated September 24, 1999, and A340-27-4062, Revision 01, dated November 8, 1999 (for Model A340 series airplanes); as applicable; constitutes terminating action for the requirements of this AD.

Alternative Methods of Compliance

(e) An alternative method of compliance or adjustment of the compliance time that provides an acceptable level of safety may be used if approved by the Manager, International Branch, ANM-116, FAA Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Note 4: The subject of this AD is addressed in French airworthiness directives 2000-014-108(B) and 2000-017-134(B), each dated January 12, 2000.

Issued in Renton, Washington, on June 7, 2000.
Donald L. Riggin,
Acting Manager, Transport Airplane Directorate, Aircraft Certification Service.

[FR Doc. 00-14955 Filed 6-13-00; 8:45 am]

BILLING CODE 4910-13-P